DEPARTMENT OF DEFENSE

Office of the Secretary

Record of Decision for the Final Programmatic Environmental Impact Statement for Defense Threat Reduction Agency (DTRA) Activities on White Sands Missile Range, NM

AGENCY: Department of Defense; Defense Threat Reduction Agency.

ACTION: Notice of Availability of Record of Decision for White Sands Missile Range Programmatic Environmental Impact Statement.

SUMMARY: Pursuant to the National Environmental Policy Act (NEPA) of 1969, as amended (42 U.S.C. 4321 et seq.), and the Council on Environmental Quality Regulations for Implementing the Procedural Provisions of NEPA (40 CFR parts 1500-1508), the Defense Threat Reduction Agency (DTRA) has prepared and issued a Record of Decision for the proposed testing activities on White Sands Missile Range (WSMR) proposed in the WSMR Programmatic Environmental Impact Statement (PEIS). The PEIS addresses the potential environmental impacts associated with implementing the proposed action, alternative, and no action alternative over a 10-year period.

The purpose of the proposed action is to provide adequate test areas and facilities to evaluate the lethality effectiveness of weapon systems used against simulated enemy ground targets producing, storing, or controlling Weapons of Mass Destruction (WMD).

There is a need to improve the U.S. Military's weapon systems that are designed to defeat enemy military assets, including hardened and reinforced structures. These enemy military assets can house WMD and pose a significant threat to international stability and peaceful coexistence within and among nations. The military structures and equipment of the United States and its allies must also be refined to better withstand attack by enemy weapons systems to reduce collateral damage.

The Record of Decision briefly summarizes the determination of the WSMR PEIS and announces DTRA's intended course of action with respect to the proposed alternatives and environmental mitigation measures presented in the WSMR PEIS.

ADDRESSES: The final PEIS and Record of Decision are available for public viewing on the DTRA Web site: www.dtra.mil and at the following public libraries: Albuquerque Public Library, 501 Copper Ave., Northwest, Albuquerque, NM; Socorro Public Library, 401 Park Street, Socorro, NM; Alamogordo Public Library, 920 Oregon Ave., Alamogordo, NW; Branigan Memorial Library, 200 East Picacho Ave., Las Cruces, NM; Consolidated Library, Building 464, White Sands Missile Range, NM; Holloman Air Force Base Library, 596 4th Street, Holloman Air Force Base, NM; and El Paso Public Library, 501 North Oregon Street, El Paso, TX.

FOR FURTHER INFORMATION CONTACT: The DTRA Public Affairs Office: (800) 701-5096 or (703) 767-5870.

SUPPLEMENTARY INFORMATION: A draft PEIS was released on Jan. 27, 2006 (71 FR 4571) for a 60-day public review and comment period that ended March 28, 2006. Public hearings were held Feb. 28, 2006 in Alamogordo, March 1, 2006 in Las Cruces, and March 2, 2006 in Socorro, NM. All comments received were addressed and incorporated into the final PEIS, which was released for public review on March 15, 2007. An announcement of the PEIS's public availability was published in the Federal Register on March 15, 2007 (72 FR 12167).

Dated: May 18, 2007.
L.M. Bynum,
Alternate OSD Federal Register Liaison Officer, DoD.

[FR Doc. 07-2595 Filed 5-24-07; 8:45 am]

BILLING CODE 5001-06-M